DEPARTMENT OF EDUCATION

Office of Elementary and Secondary Education—Safe and Drug-Free Schools and Communities National Programs—Federal Activities—Grant Competition To Prevent High-Risk Drinking and Violent Behavior Among College Students

AGENCY: Office of Elementary and Secondary Education, Department of Education.

ACTION: Correction Notice; Notice of Final Priorities and Selection Criteria for Fiscal Year (FY) 2001 and Subsequent Years.

SUMMARY: The Assistant Secretary published a notice of final priorities and selection criteria for this competition in the Federal Register on December 27, 2000 (65 FR 82224-82226). In that notice of final priorities and selection criteria (page 82225, column 1), Absolute Priority #2 should read “Develop or Enhance, Implement, and Evaluate Campus- and/or Community-Based Strategies to Prevent Violent Behavior Among College Students.”

FOR FURTHER INFORMATION CONTACT: Richard Lucey, Jr., U.S. Department of Education, 400 Maryland Avenue, SW., Room 3E252, Washington, DC 20202-6123. Telephone: (202) 205-5471. If you use a telecommunications device for the deaf (TDD), you may call the Federal Information Relay Service (FIRS) at (800) 877-8339. Individuals with disabilities may obtain this document in an alternate format (e.g., Braille, large print, audiotape, or computer diskette) on request to the contact person listed in the preceding paragraph.

Note: This notice does not solicit applications. In any year in which the Assistant Secretary chooses to use these final priorities and selection criteria, we invite applications through a notice in the Federal Register. A notice inviting applications under this competition was previously published in the Federal Register on December 27, 2000 (65 FR 82222).

Program Authority: 20 U.S.C. 7131.

Electronic Access to This Document

You may view this document, as well as all other Department of Education documents published in the Federal Register, in text or Adobe Portable Document Format (PDF) on the Internet at either of the following sites: http://ocfo.ed.gov/fedreg.htm or http://www.ed.gov/news.html. To use PDF, you must have Adobe Acrobat Reader, which is available free at either of the previous sites. If you have questions about using PDF, call the U.S. Government Printing Office (GPO) toll free at (888) 293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number 84.184H Office of Elementary and Secondary Education—Safe and Drug-Free Schools and Communities National Programs—Federal Activities—Grant Competition to Prevent High-Risk Drinking and Violent Behavior Among College Students)

Dated: January 5, 2001.
Michael Cohen,
Assistant Secretary for Elementary and Secondary Education.

[FR Doc. 01-737 Filed 1-9-01; 8:45 am]

BILLING CODE 4000-01-M